DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forest's Lincoln County Resource Advisory Committee will meet on Wednesday, February 15, 2011 at 6 p.m. at the Forest Supervisor's Office in Libby, Montana for a business meeting. The meeting is open to the public.

DATES: February 15, 2011.

ADDRESSES: Forest Supervisor's Office, 31374 U.S. Hwy 2, Libby, Montana.

FOR FURTHER INFORMATION CONTACT: Janette Turk, Committee Coordinator, Kootenai National Forest at (406) 283-7764, or e-mail jturk@fs.fed.us.

SUPPLEMENTARY INFORMATION: Agenda will include community outreach for project proposals, grizzly bear DNA study update, and planning the spring field trip. If the meeting date or location is changed, notice will be posted in the local newspapers, including the Daily Interlake based in Kalispell, Montana.

Dated: January 20, 2011.
Maggie Pittman,
Acting Forest Supervisor.

[FR Doc. 2011-2005 Filed 1-28-11; 8:45 am]

BILLING CODE 3410-11-P